DEPARTMENT OF THE INTERIOR

National Park Service

36 CFR Part 7

[NPS-GLCA-NPS39540; NPS-2024-0005; PPIMGLCAA0.PPMPSAS1Z.Y00000-255P10361]

RIN 1024-AE91

Glen Canyon National Recreation Area; Motor Vehicles; Delay of Effective Date

AGENCY: National Park Service, Interior.

ACTION: Final rule; delay of effective date.

SUMMARY: In accordance with the memorandum of January 20, 2025, from President Donald J. Trump, entitled “Regulatory Freeze Pending Review,” this action temporarily delays the effective date of a rule published on January 13, 2025, until March 21, 2025.

DATES: As of February 11, 2025, the effective date of the final rule amending 36 CFR part 7 published at 90 FR 2621, January 13, 2025, is delayed to March 21, 2025.

FOR FURTHER INFORMATION CONTACT: Michelle Kerns, Superintendent, Glen Canyon National Recreation Area, P.O. Box 1507, Page, Arizona 86040, by phone at 928-608-6210, or by email at GLCA_Superintendent@nps.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The National Park Service (NPS) is taking this action in response to the memorandum of January 20, 2025, from the President, entitled “Regulatory Freeze Pending Review.” The memorandum directed the heads of Executive Departments and Agencies to consider postponing for 60 days from the date of the memorandum the effective date for any rules that have been published in the Federal Register but had not yet taken effect for the purpose of reviewing any questions of fact, law, and policy that the rules may raise. The NPS has determined the Glen Canyon National Recreation Area; Motor Vehicles final rule meets the criteria for delaying the effective date. The new effective date for this regulation is March 21, 2025.

The NPS is taking this action, without opportunity for public comment and effective immediately, based on the good cause exceptions in 5 U.S.C. 553(b)(B) and 553(d)(3), in that seeking public comment is impracticable, unnecessary, and contrary to the public interest. The temporary delay in effective date until March 21, 2025, is necessary to give Agency officials the opportunity for further review and consideration of new regulations, consistent with the memorandum of the President dated January 20, 2025. Given the imminence of the effective date of this regulation, seeking prior public comment on this temporary delay is impractical, as well as contrary to the public interest in the orderly promulgation and implementation of regulations.

For the foregoing reasons, the good cause exception in 5 U.S.C. 553(d)(3) also applies to NPS's decision to make this action effective immediately. Moreover, to the extent that extending the effective date of this rule would grant an exception or relieve a restriction, an exception also applies under 5 U.S.C. 553(d)(1).

Where appropriate, the Agency may consider further delaying the effective date of the above-referenced regulations beyond March 21, 2025. If the Agency were to do so, consistent with the memorandum of the President, the Agency would consider whether to propose any later effective date for public comment.

Maureen D. Foster,
Chief of Staff, Exercising the Delegated Authority of the Assistant Secretary for Fish and Wildlife and Parks.

[FR Doc. 2025-02659 Filed 2-11-25; 4:15 pm]

BILLING CODE 4312-52-P